DEPARTMENT OF STATE

[Public Notice 12403]

60-Day Notice of Proposed Information Collection: Recording, Reporting and Data Collection Requirements—Student and Exchange Visitor Information System (SEVIS)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 15, 2024.

ADDRESSES: You may submit comments by any of the following methods:

• Web: Persons with access to the internet may comment on this notice by going to www.Regulations.gov. You can search for the document by entering “Docket Number: DOS-2024-0017” in the Search field. Then click the “Comment Now” button and complete the comment form.

• Email: jexchanges@state.gov.

• Regular Mail: Send written comments to: U.S. Department of State, Private Sector Exchange Directorate (ECA/EC), SA-5, 2200 C Street NW, Washington, DC 20522-0505, ATTN: Federal Register Notice Response.

You must include the DS form number (if applicable), information collection title, and the OMB control number in any correspondence.

FOR FURTHER INFORMATION CONTACT: Direct requests for additional information regarding the collection listed in this notice, including requests to Private Sector Exchange Directorate (ECA/EC), U.S Department of State, SA-5, 2200 C Street NW, Washington, DC 20522-0505, ATTN: Federal Register Notice Response, Jennifer Nupp, at phone: (202) 826-4364, or via email: jexchanges@state.gov.

SUPPLEMENTARY INFORMATION:

• Title of Information Collection: Recording, Reporting, and Data Collection Requirements—Student and Exchange Visitor Information System (SEVIS).

• OMB Control Number: 1405-0147.

• Type of Request: Reinstatement of a previously approved collection.

• Originating Office: Bureau of Educational and Cultural Affairs (ECA/EC).

• Form Number: DS-3036, DS-3037, DS-7000.

• Respondents: U.S. government and public and private organizations wishing to become Department of State designated sponsors authorized to conduct exchange visitor programs, and Department of State designated sponsors and exchange visitors and hosts.

• Estimated Number of Respondents: 186,910 (DS-3036—60); (DS-3037—1,450); (DS-7000—185,400).

• Estimated Number of Responses: 2,001,524 (DS-3036—60; DS-3037—2,900; DS-7000—1,998,564 (1,977,588 for Non-SEVIS and 20,976 for SEVIS).

• Average Time Per Response: DS-3036—8 hours; DS-3037—20 minutes; DS-7000—45 minutes.

• Total Estimated Burden Time: 1,988,286 hours (DS-3036—480 hours; DS-3037 943 hours; DS-7000—1,986,863).

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The collection contains information collected by the Bureau of Educational and Cultural Affairs in administering the Exchange Visitor Program (J-Visa) under the provisions of the Mutual Educational and Cultural Exchange Act, as amended (22 U.S.C. 2451, et seq.

Methodology

Information will be collected through mail or electronic submission. Access to Forms DS-3036 and DS-3037 are found in the Student and Exchange Visitor Information System (SEVIS). Form DS-7000 is an internal spreadsheet that summarizes the burden resulting from requirements of the Exchange Visitor Program rules in 22 CFR part 62.

Rebecca Pasini,
Deputy Assistant Secretary, Bureau of Educational and Cultural Affairs.

[FR Doc. 2024-10487 Filed 5-13-24; 8:45 am]

BILLING CODE 4710-05-P